DEPARTMENT OF COMMERCE

Foreign-Trade Zones Board

[B-93-2012]

Foreign-Trade Zone 33 — Pittsburgh, Pennsylvania Notification of Proposed Export Production Activity Tsudis Chocolate Company (Chocolate Confectionery Bars) Pittsburgh, PA

Tsudis Chocolate Company (Tsudis), an operator of FTZ 33, submitted a notification of proposed export production activity for its facility in Pittsburgh, Pennsylvania. The notification conforming to the requirements of the regulations of the Foreign-Trade Zones Board (15 CFR 400.22) was received on December 4, 2012.

The Tsudis facility is located within Site 10 of FTZ 33. Activity at the facility would involve the production of chocolate confectionery bars for export (no shipments for U.S. consumption would occur). For shipments to Canada or Mexico, production under FTZ procedures could allow reduced duty treatment under NAFTA Duty Deferral requirements. For shipments to other export markets, FTZ procedures could exempt Tsudis from customs duty payments on the foreign status material used in its production. The sole foreign-origin material to be used in the export production is liquid chocolate (duty rate: 52.8¢/kg+4.3%). Customs duties also could possibly be deferred or reduced on foreign status production equipment or foreign liquid chocolate scrapped or destroyed under customs procedures.

Public comment is invited from interested parties. Submissions shall be addressed to the Board's Executive Secretary at the address below. The closing period for their receipt is February 11, 2013.

A copy of the notification will be available for public inspection at the Office of the Executive Secretary, Foreign-Trade Zones Board, Room 21013, U.S. Department of Commerce, 1401 Constitution Avenue NW, Washington, DC 20230-0002, and in the “Reading Room” section of the Board's Web site, which is accessible via www.trade.gov/ftz.

For further information, contact Pierre Duy at Pierre.Duy@trade.gov, or (202) 482-1378.

Dated: December 19, 2012.
Andrew McGilvray,
Executive Secretary.

[FR Doc. 2012-31445 Filed 12-28-12; 8:45 am]

BILLING CODE P